DEPARTMENT OF HEALTH AND HUMAN SERVICES

National Institutes of Health

National Institute on Alcohol Abuse and Alcoholism; Amended Notice of Meeting

Notice is hereby given of a change in the meeting of the Clinical, Treatment and Health Services Research Review Subcommittee, June 19, 2020, 8:30 a.m. to June 19, 2020, 5:00 p.m., National Institutes of Health—TELE­CON­FERENCE, National Institute on Alcohol Abuse and Alcoholism, 6700B Rockledge Drive, Bethesda, MD 20817 which was published in the Federal Register on April 2, 2020, 85 FR 18579.

This notice is being amended to change the meeting format from Telephone Conference Call to Virtual Meeting. The meeting is closed to the public.

Dated: April 24, 2020.
Ronald J. Livingston, Jr.,
Program Analyst, Office of Federal Advisory Committee Policy.

[FR Doc. 2020-09119 Filed 4-29-20; 8:45 am]

BILLING CODE 4140-01-P